DEPARTMENT OF JUSTICE

Notice of Lodging of Proposed Consent Decree Under the Clean Air Act

On January 14, 2021, the Department of Justice lodged a proposed consent decree with the United States District Court for the Middle District of North Carolina in United States v. Pilkington North America, Inc., Civil Action No. 1:21-cv-00040.

The United States filed a complaint under Clean Air Act (CAA) Sections 113(b) and 167, 42 U.S.C. 7413(b) and 7477, seeking injunctive relief for the Defendant's alleged failure to (1) obtain appropriate permits before modifying and subsequently operating Furnace No. 1 at its glass manufacturing facility in Laurinburg, North Carolina, and (2) install and employ the best available control technology (BACT) to control emissions of nitrogen oxides (NOX), sulfur dioxide (SO2), and particulate matter (PM) from Furnace No. 1, as required by the CAA. The United States simultaneously lodged a consent decree that would settle the claims in the complaint.

Under the proposed decree, the Defendant will have to (1) install equipment on Furnace No. 1 to control emissions of NOX, SO2, and PM from the furnace; (2) install equipment on Furnace No. 1 to continuously monitor NOX and SO2 emissions from the furnace and perform annual stack tests to monitor PM emissions from the furnace; (3) meet interim and final limits for emissions of NOX, SO2, and PM from Furnace No. 1; (4) incorporate certain requirements of the decree into a permit; and (5) perform a project to mitigate excess PM emissions from the Laurinburg facility.

The publication of this notice opens a period for public comment on the proposed consent decree. Comments should be addressed to the Assistant Attorney General, Environment and Natural Resources Division, and should refer to United States v. Pilkington North America, Inc., D.J. Ref. No. 90-5-2-1-10328. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $21.25 (25 cents per page reproduction cost) payable to the United States Treasury.

Lori Jonas,
Assistant Section Chief, Environmental Enforcement Section, Environment and Natural Resources Division.

[FR Doc. 2021-01436 Filed 1-22-21; 8:45 am]

BILLING CODE 4410-15-P